FEDERAL COMMUNICATIONS COMMISSION

47 CFR Part 73

[DA 00-1740; MM Docket No. 98-89; RM-9279, RM-9670]

Radio Broadcasting Services; Hanna and Baggs, Wyoming

AGENCY: Federal Communications Commission.

ACTION: Final rule.

SUMMARY: The Commission, at the request of Mountain Tower Broadcasting, allots Channel 271C to Hanna, Wyoming, as the community's first local aural service, and, at the request of Mount Rushmore Broadcasting, Inc., allots Channel 277A at Hanna and Channel 277A to Baggs, Wyoming, as the community's first local aural service. See 63 FR 34620 (June 25, 1998). Channel 271C can be allotted at Hanna in compliance with the Commission's minimum distance separation requirements, with respect to domestic allotments, with a site restriction of 55.7 kilometers (34.6 miles) west of the community at coordinates 42-00-54 and 107-12-32. Channel 277A can be allotted at Hanna in compliance with the Commission's minimum distance separation requirements, with respect to domestic allotments without a site restriction at coordinates 41-52-06 and 106-34-00 and Channel 277A can be allotted at Baggs in compliance with the Commission's minimum distance separation requirements, with respect to domestic allotments without a site restriction at coordinates 41-02-12 and 107-39-24. Filing windows for Channels 271C and 277A at Hanna and 277A at Baggs will not be opened at this time. Instead, the issue of opening a filing window for each channel will be addressed by the Commission in a subsequent Order.

DATES: Effective September 18, 2000.

ADDRESSES: Federal Communications Commission, Washington, D.C. 20554.

FOR FURTHER INFORMATION CONTACT: Victoria M. McCauley, Mass Media Bureau, (202) 418-2180.

SUPPLEMENTARY INFORMATION: This is a synopsis of the Commission's Report and Order, MM Docket No. 98-89, adopted July 26, 2000, and released August 4, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

2. Section 73.202(b), the Table of FM Allotments under Wyoming, is amended by adding Hanna, Channel 271C, 277A and Baggs, Channel 277A.

Federal Communications Commission.
John A. Karousos,
Chief, Allocations Branch, Policy and Rules Division, Mass Media Bureau.

[FR Doc. 00-21401 Filed 8-24-00; 8:45 am]

BILLING CODE 6712-01-P